DEPARTMENT OF THE TREASURY

United States Mint

Prices of Mayflower 400th Anniversary Gold Coins on the “2020 Pricing of Numismatic Gold, Commemorative Gold, Platinum, and Palladium Products” Grid

AGENCY: United States Mint, Department of the Treasury.

ACTION: Notice.

SUMMARY: The United States Mint announces pricing for the Mayflower 400th Anniversary Gold Coins on the 2020 Pricing of Numismatic Gold, Commemorative Gold, Platinum, and Palladium Products Grid.

An excerpt of the grid, including a recent price range for the Mayflower 400th Anniversary Gold Coins, appears below:

The complete 2020 Pricing of Numismatic Gold, Commemorative Gold, Platinum, and Palladium Products Grid will be available online at https://catalog.usmint.gov/coin-programs/american-eagle-coins.

Pricing can vary weekly dependent upon the London Bullion Market Association gold, platinum, and palladium prices weekly average. The pricing for all United States Mint numismatic gold, platinum, and palladium products is evaluated every Wednesday and modified as necessary.

FOR FURTHER INFORMATION CONTACT: Cathy Olson; Sales and Marketing Directorate; United States Mint; 801 9th Street NW, Washington, DC 20220; or call 202-354-7500 or colson@usmint.treas.gov.

(Authority: 31 U.S.C. 5111 and 5112, Pub. L. 116-71, Pub. L. 115-343, Pub. L. 116-112, 31 U.S.C. 5112(i)(4)(C))

Eric Anderson,
Executive Secretary, United States Mint.

[FR Doc. 2020-23117 Filed 10-19-20; 8:45 am]

BILLING CODE P